DEPARTMENT OF COMMERCE

National Telecommunications and Information Administration

First Responder Network Authority Board Meeting

AGENCY: National Telecommunications and Information Administration, U.S. Department of Commerce.

ACTION: Notice of open public meetings.

SUMMARY: The National Telecommunications and Information Administration (NTIA) will convene open public meetings of the Board of the First Responder Network Authority (FirstNet).

DATES: The meetings will be held on December 11, 2012; April 23, 2013; August 13, 2013; and October 15, 2013, from 9 a.m. to 12:30 p.m. Eastern Time in Washington, DC.¹

¹ Additional meetings will be held February 12, 2013, and December 17, 2013 in Boulder, Colorado; and June 11, 2012, in San Francisco, California. NTIA will publish separate Federal Register Notices for the Boulder and San Francisco meetings.

ADDRESSES: For the meetings in Washington, DC, Board members will meet in the Secretary's Conference Room, Room 5855, Herbert C. Hoover Building, U.S. Department of Commerce, 14th Street and Constitution Avenue NW., Washington, DC.

FOR FURTHER INFORMATION CONTACT: Uzoma Onyeije, Senior Advisor for Public Safety, National Telecommunications and Information Administration, U.S. Department of Commerce, 1401 Constitution Avenue NW., Washington, DC 20230; telephone (202) 482-0016; email uonyeije@ntia.doc.gov. Please direct media inquiries to NTIA's Office of Public Affairs, (202) 482-7002.

SUPPLEMENTARY INFORMATION: Background: The Middle Class Tax Relief and Job Creation Act of 2012 (Act), Public Law 112-96, 126 Stat. 156 (2012), created FirstNet as an independent authority within NTIA. The Act directs FirstNet to establish a single nationwide, interoperable public safety broadband network. The FirstNet Board is responsible for making strategic decisions regarding FirstNet's operations. The FirstNet Board held its first public meeting on September 25, 2012.

Matters To Be Considered: NTIA will post a detailed agenda on its Web site, http://www.ntia.doc.gov/category/firstnet prior to each meeting. The agenda topics are subject to change.

Time and Date: The meetings will be held on December 11, 2012; April 23, 2013; August 13, 2013; and October 15, 2013, from 9 a.m. to 12:30 p.m. Eastern Time. The times are subject to change. Please refer to NTIA's Web site at http://www.ntia.doc.gov/category/firstnet for the most current information.

Place: The meetings will be held in the Secretary's Conference Room, Room 5855, U.S. Department of Commerce, Herbert C. Hoover Building, 14th Street and Constitution Avenue NW., Washington, DC. The location of these meetings is subject to change. Please refer to NTIA's Web site at http://www.ntia.doc.gov/category/firstnet for the most current information.

Other Information: The meeting is open to the public and press. Given the space limitations of the Secretary's Conference Room where the Board will meet, members of the public wishing to attend the meeting in person will be directed to the Auditorium in the Herbert C. Hoover Building where they can observe the meeting by video. Due to security requirements and to facilitate entry into the building, U.S. nationals must present valid, government-issued photo identification upon arrival. Foreign nationals must contact Uzoma Onyeije at (202) 482-0016 or uonyeije@ntia.doc.gov at least five (5) business days prior to the meeting in order to provide the necessary clearance information, and must present valid, government-issued photo identification upon arrival.

The meetings are accessible to people with disabilities. Individuals requiring accommodations, such as sign language interpretation or other ancillary aids, are asked to notify Uzoma Onyeije, Senior Advisor for Public Safety, at (202) 482-0016 or uonyeije@ntia.doc.gov at least five (5) business days before the meeting.

The meetings will also be webcast. Please refer to NTIA's Web site at http://www.ntia.doc.gov/category/firstnet for webcast instructions and other information. If you have technical questions regarding the webcast, please contact Charles Franz at cfranz@ntia.doc.gov. Access details for these meetings are subject to change. Please refer to NTIA's Web site at http://www.ntia.doc.gov/category/firstnet for the most current information.

Records: NTIA maintains records of all Board proceedings. Board minutes will be available at http://www.ntia.doc.gov/category/firstnet.

Dated: November 6, 2012.
Kathy D. Smith,
Chief Counsel.

[FR Doc. 2012-27435 Filed 11-8-12; 8:45 am]

BILLING CODE 3510-60-P